DEPARTMENT OF LABOR

Mine Safety and Health Administration

Petition for Modification of Application of Existing Mandatory Safety Standard; Correction

AGENCY: Mine Safety and Health Administration, Labor.

ACTION: Notice; correction.

SUMMARY: This notice amends a petition for modification published in the Federal Register on October 19, 2023, for Peabody Midwest Mining, LLC, CR 725 East, Francisco, Indiana 47699.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION:

Correction

This notice corrects the docket number cited in the notice. Docket Number M-2023-021-C is incorrectly referenced in the Federal Register, 88 FR 72106, October 19, 2023, first column. The correct Docket Number is M-2023-024-C.

Song-ae Aromie Noe,
Director, Office of Standards, Regulations, and Variances.

[FR Doc. 2023-24835 Filed 11-8-23; 8:45 am]

BILLING CODE P